DEPARTMENT OF COMMERCE

National Oceanic and Atmospheric Administration

Science Advisory Board; Meetings

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Tuesday August 2 from 9:15 a.m. CDT to 5:30 p.m. CDT and on Wednesday August 3 from 8:15 a.m. CDT to 1:30 p.m. CDT. These times and the agenda topics described below are subject to change. Please refer to the Web page http://www.sab.noaa.gov/Meetings/meetings.html for the most up-to-date meeting times and agenda.

Place: The meeting will be held at the Bryant Conference Center, 240 Paul W. Bryant Dr., Tuscaloosa, Alabama. Please check the SAB Web site http://www.sab.noaa.gov/Meetings/meetings.html for directions to the meeting location.

Status: The meeting will be open to public participation with a 15-minute public comment period on August 2 from 12:30-12:45 p.m. CDT (check Web site to confirm time). The SAB expects that public statements presented at its meetings will not be repetitive of previously submitted verbal or written statements. In general, each individual or group making a verbal presentation will be limited to a total time of two (2) minutes. Individuals or groups planning to make a verbal presentation should contact the SAB Acting Executive Director by July 26, 2016 to schedule their presentation. Written comments should be received in the SAB Executive Director's Office by July 26, 2016, to provide sufficient time for SAB review. Written comments received by the SAB Executive Director after July 26, 2016, will be distributed to the SAB, but may not be reviewed prior to the meeting date. Seating at the meeting will be available on a first-come, first-served basis.

Special Accommodations: These meetings are physically accessible to people with disabilities. Requests for special accommodations may be directed no later than 12:00 p.m. on July 26, 2016, to Dr. Cynthia Decker, SAB Executive Director, SSMC3, Room 11230, 1315 East-West Highway, Silver Spring, MD 20910; Email: Cynthia.Decker@noaa.gov.

Matters To Be Considered: The meeting will include the following topics: (1) Report on Arctic Research Review from the Ecosystem Sciences and Management Working Group; (2) Updates from the NOAA Administrator and Chief Scientist; (3) NOAA Response to the SAB GOES-R Level 0 Data report; (4) SAB Strategy Discussion and Implications for NOAA; (5) Discussion of SAB Issue Papers; and (6) Discussion of Working Group and SAB Concepts of Operations.

FOR FURTHER INFORMATION CONTACT: Dr. Cynthia Decker, Executive Director, Science Advisory Board, NOAA, Room 11230, 1315 East-West Highway, Silver Spring, MD 20910. Email: Cynthia.Decker@noaa.gov; or visit the NOAA SAB Web site at http://www.sab.noaa.gov.

Dated: July 8, 2016.
Jason Donaldson,
Chief Financial Officer, Office of Oceanic and Atmospheric Research, National Oceanic and Atmospheric Administration.

[FR Doc. 2016-16683 Filed 7-13-16; 8:45 am]

BILLING CODE 3510-KD-P